DEPARTMENT OF TRANSPORTATION

Federal Aviation Administration

[Docket No. FAA-2025-1571]

Notice of Rescission of FAA Order 1050.1F, Availability of FAA Order 1050.1G, Request for Comments

AGENCY: Department of Transportation, Federal Aviation Administration.

ACTION: Notice.

SUMMARY: The Federal Aviation Administration (FAA) is rescinding FAA Order 1050.1F, Environmental Impacts: Policies and Procedures in light of Executive Order 14154, Unleashing American Energy. The FAA is issuing new streamlined National Environmental Policy Act (NEPA) procedures, FAA NEPA Order 1050.1G, to align with amendments to the NEPA, 42 U.S.C. 4321 et seq., and to reflect the February 25, 2025 Interim Final Rule issued by the Council on Environmental Quality (CEQ) rescinding its regulations implementing NEPA. The new procedures maintain environmental amenities and protection and reduce regulatory delays that may impede aviation safety improvements and infrastructure development as well as integration of new entrant technologies. The Order is immediately effective upon publication and applies to all FAA actions that require environmental review and commence on or after the publication of this Notice. This Order does not apply to or alter any decisions made or final environmental documents issued prior to the effective date of this Order. Order 1050.1G promotes collaboration and efficiencies in the implementation of NEPA and modernizes the procedures for environmental reviews. This update is intended to provide clear, consistent, and simplified guidance for complying with the amended directives set forth in NEPA, and to the extent applicable, CEQ guidance that remains valid following the rescission of CEQ's NEPA implementing regulations. The FAA is providing an opportunity for public review and comment of this Order, which will inform future revisions.

DATES: This rescission notice and the Order are immediately effective upon publication in the Federal Register July 3, 2025. Comments on the Order must be received not later than August 4, 2025.

This order is available at www.regulations.gov under Docket No. FAA-2025-1571.

ADDRESSES: The FAA has established a docket for this action at www.regulations.gov under docket number FAA-2025-1571. You must submit comments, identified by Docket No. FAA-2025-1571. Comments will be posted without change to www.regulations.gov, including any personal information provided.

FOR FURTHER INFORMATION CONTACT: Judith Walker, Environmental Protection Specialist, 202-267-4185, judith.walker@faa.gov.

SUPPLEMENTARY INFORMATION:

I. Introduction

A. Statutory Authority

The National Environmental Policy Act, as amended, 42 U.S.C. 4321 et seq. (NEPA), requires all Federal agencies, in consultation with the Council on Environmental Quality (CEQ), to “identify and develop methods and procedures . . . [t]o ensure that presently unquantified environmental amenities and values may be given appropriate consideration in decisionmaking along with economic and technical considerations.” 42 U.S.C. 4332(B). Further, where compliance with NEPA would not be “inconsistent with other statutory requirements,” NEPA directs all Federal agencies to develop “proposals for . . . major Federal actions significantly affecting the quality of the human environment” by developing a “detailed statement” which, among other things, analyzes the “reasonably foreseeable environmental effects” and “reasonable range of alternatives” to the proposal. 42 U.S.C. 4332(2)(C). The CEQ has previously issued regulations at 40 CFR parts 1500-1508 (CEQ regulations) implementing NEPA that were binding on Federal agencies. On February 25, 2025, CEQ issued an interim final rule to remove the existing implementing regulations consistent with Executive Order (E.O.) 14154, Unleashing American Energy. That rule became effective on April 11, 2025. See Removal of Environmental Policy Act Implementing Regulations, (90 FR 10610; Feb. 25, 2025). This action was necessitated by and consistent with Executive Order (E.O.) 14154, Unleashing American Energy (90 FR 8353; January 29, 2025), in which President Trump rescinded President Carter's E.O. 11991, Relating to Protection and Enhancement of Environmental Quality (42 FR 26967; May 24, 1977), which was the basis CEQ had invoked for its authority to make rules to begin with. The FAA's NEPA implementing procedures, which were a supplement to those CEQ regulations, thus stand in obvious need of fundamental revision. President Trump in E.O. 14154 further directed agencies to revise their NEPA implementing procedures consistent with the E.O., including its direction to CEQ to rescind its regulations.

In addition, Congress recently amended NEPA in significant part, in the Fiscal Responsibility Act of 2023 (FRA), Public Law 118-5, signed on June 3, 2023, in which Congress added substantial detail and direction in Title I of NEPA, including in particular on procedural issues that CEQ and individual agencies had previously addressed in their own procedures. The FAA recognized the need to update its regulations in light of these significant legislative changes. Since the FAA's regulations were originally designed as a supplement to CEQ's NEPA regulations, the FAA had been awaiting CEQ action before revising its regulations, consistent with CEQ direction. See 40 CFR 1507.3(b) (2024); see also 86 FR 34154 (June 29, 2021). However, with CEQ's regulations now rescinded, and with the FAA's NEPA implementing procedures still unmodified more than two years after this significant legislative overhaul, it is exigent that the FAA move quickly to conform its procedures to the statute as amended.

Finally, the Supreme Court on May 29, 2025 issued a landmark decision, Seven County Infrastructure Coalition v. Eagle County, Colorado (“Seven County”), No. 23-975, 605 U.S., 2025 WL 1520964 (2025), in which it decried the “transform[ation]” of NEPA from its roots as “a modest procedural requirement,” into a significant “substantive roadblock” that “paralyze[s]” “agency decisionmaking.” Id. at *3, *8 (quotations omitted). The Supreme Court explained that part of that problem had been caused by decisions of lower courts, which it rejected, issuing a “course correction” mandating that courts give “substantial deference” to reasonable agency conclusions underlying its NEPA process. Id. at *9, *8. But the Court also acknowledged, and through its course correction sought to address, the effect on “litigation-averse agencies” which, in light of judicial micromanagement, had been “tak[ing] ever more time and to prepare ever longer EISs for future projects.” Id. at *8. The FAA, thus, is issuing FAA Order 1050.1G on an interim final basis, to align its actions with the Supreme Court's decision and streamline its process of ensuring reasonable NEPA decisions. This revision has thus been called for, authorized, and directed by all three branches of government at the highest possible levels.

The FAA has accordingly reviewed its current implementing Order 1050.1F and has developed Order 1050.1G in consultation with CEQ. This action thus fulfills President Trump's directive in E.O. 14154 for each agency to, in consultation with the CEQ, revise its agency-level NEPA implementing procedures in light of the Fiscal Responsibility Act. 90 FR at 8355. This Order is effective immediately upon publication in the Federal Register; however, the FAA is providing an opportunity for public review and comment of this Order which may inform its future revisions.

B. Background

NEPA establishes a national environmental policy of the federal government to use all practicable means and measures to foster and promote the general welfare, create and maintain conditions under which man and nature can exist in productive harmony, and fulfill the social, economic, and other requirements of present and future generations of Americans. NEPA Section 101, 42 U.S.C. 4331(a). NEPA Section 102(2) requires Federal agencies to prepare detailed environmental statements on major Federal actions significantly affecting the quality of the human environment. 42 U.S.C. 4332(2)(C).

E.O. 14154, Unleashing American Energy, directed the Council on Environmental Quality to rescind its regulations implementing NEPA 42 U.S.C. 4321 et seq., as amended, not later than 30 days of the date of issue of the E.O. The E.O. directed federal agencies to review and revise their NEPA procedures to align with the requirements of NEPA, as amended by the Fiscal Responsibility Act of 2023 (Pub. L. 118-5), and to comport with the policy of the Trump Administration by “expediting permitting approvals,” “meeting deadlines established in the Fiscal Responsibility Act,” “prioritize[ing] efficiency and certainty” and otherwise seeking to minimize “delays and ambiguity to the permitting process.” 90 FR at 8355.

In response, the CEQ issued an interim final rule rescinding its regulations at 40 CFR parts 1500-1508 on February 25, 2025. That rule became effective on April 11, 2025. This action eliminated the binding government-wide NEPA regulations and placed the responsibility for implementing NEPA on agencies acting under the statute, their agency statutes, and applicable judicial interpretations. In fulfilling these responsibilities, agencies remain obligated to consult with CEQ prior to issuing their NEPA-implementing procedures. See 42 U.S.C. 4322(B), 90 FR 8355.

The FAA is charged with promoting aviation safety, fostering air commerce, and developing and managing the National Airspace System (NAS). The agency's mandates require balancing environmental considerations with the imperative to maintain and improve aviation safety and efficiency. FAA is rescinding its existing NEPA implementing policies and procedures as set forth in FAA Order 1050.1F, Environmental Impacts, Policies and Procedures (2015) and adopting NEPA procedures which will be referenced as FAA Order 1050.1G, FAA National Environmental Policy Act Implementing Procedures.

C. Expected Impact of the Order

This Order revises the internal procedures of the FAA, promoting consistent and timely implementation of NEPA. These policies and procedures provide consistency, aid efficiency, reduce duplication, and continue to promote agency practices on fostering informed decision-making, rather than generating paperwork. The FAA expects that this Order will reduce unnecessary delays. The FAA also expects the changes to increase the availability and use of categorical exclusions, early collaboration, and dispute resolution and coordination techniques as well as to improve timely completion of the environmental review process. Finally, the Order articulates the FAA's interpretations of existing law and provides guidelines for agency procedure and practice with respect to NEPA compliance. The Order does not in fact, nor does it intend to, govern the rights and obligations of any party outside the federal government. Further, nothing contained in the Order is intended or should be construed to limit the FAA's other authorities or legal responsibilities.

II. Summary of Revisions

Through this notice, the FAA is rescinding and revising its current procedures, FAA Order 1050.1F, Environmental Impacts: Policies and Procedures. This new Order, 1050.1G, comprehensively updates and modernizes FAA Order 1050.1F to reflect current agency NEPA practice consistent with E.O. 14154 and the Fiscal Responsibility Act of 2023 amendments to NEPA and is consistent with Department of Transportation (DOT) Order 5610.1C, “Procedures for Considering Environmental Impacts” (originally issued in 1979, 44 FR 56420 (Oct. 1, 1979), and updated in 1982, 1985, and 2025), to the extent possible.

These reforms are intended to ensure that NEPA documents inform and, to the extent appropriate, involve the public, focus on the significant issues that require analysis, and foster informed decisionmaking based on an understanding of the potential action's environmental impacts.

The Order updates terminology for consistency with modern NEPA practice and to align with the expanded set of definitions set forth in amended NEPA at 42 U.S.C. 4336e. The FAA expanded the list of actions that do not meet the revised “major Federal action” definition in NEPA at 42 U.S.C. 4336e(10). See section 1.1.Because NEPA does not explicitly address combining two or more categorical exclusions (CATEXs) to satisfy NEPA obligations for a proposed action for which there is no single applicable CATEX, FAA has considered the potential risk to the environment and has determined that multiple CATEXs may be applied to a single proposed action if there are no extraordinary circumstances when examining the project in total. The process for combining CATEXs is set forth at Section 1.2.

In the Order, at Appendix B, the FAA incorporates two statutory presumptions of a categorical exclusion (CATEX) set forth in section 788 of the FAA Reauthorization Act of 2024. Due to the reorganization of the Order, numerical references to the CATEXs have been changed. The Order does not revise or otherwise modify any existing CATEXs.

The FAA has revised and clarified the methods by which it can establish new or revise existing CATEXs in section 1.4. These methods expand the options and improve efficiency of updating the Agency's NEPA reviews for actions where a CATEX is warranted but prior procedures made establishment of CATEXs unduly onerous.

The FAA has adopted the mechanisms to enforce statutory page and time limits for environmental assessments (75 pages and 1 year) in section 1.5 and environmental impact statements (150 pages and 2 years) in sections 2.4 and 2.5.

The 2020 CEQ rule contained a provision creating agency obligations to affirmatively declare certain specific information was true for each agency NEPA document. The FAA has determined that a provision requiring a limited number of declarations that differ from those that were included in the 2020 rule is advisable and has set forth such requirements in FAA Order 1050.1G at §§ 1.5(e), 1.5(f), 2.4(e), and 2.5(d). The terminology utilized by the CEQ in its 2020 rule with respect to affirmative attestations was “certifications;” however, a “certification” is a term of art in FAA regulations. As a result, the Order has instead identified “declarations” to replace the word “certifications” to avoid confusion between other agency regulatory terminology and the affirmative attestation requirement of the FAA's NEPA order.

The Order implements the narrowed scope of interagency coordination with respect to participating agencies set forth in amended NEPA and recognizes the benefits to the FAA, to regulated entities, and the affected public as a result of early planning, integrated resource conservation and permitting, as well as other mechanisms that inform and can expedite a comprehensive environmental review.

The Order at Section 5 has been revised to provide certainty regarding the use of environmental documents other than project-specific environmental documents prepared directly by the FAA. Other revisions include removing references to the rescinded CEQ regulations, allowing reliance on previously prepared EISs, EAs, and CATEXs, setting forth guidance and procedures for applicant-prepared environmental documents, and setting forth procedures for the use of programmatic environmental documents. The majority of these provisions are found in Parts 3 and 5 of the Order.

Appendix A lists the existing FAA significance thresholds for FAA actions, which were previously found at Chapter 4. The FAA significance thresholds remain unchanged, with one minor exception to account for changes in NEPA practice due to the Supreme Court's decision in Seven County, No. 23-975, 605 U.S. __, 2025 WL 1520964 (2025).

Appendix B sets forth the existing FAA extraordinary circumstances and CATEXs, which were previously set forth in Chapter 5. These remain largely unchanged, except as noted in this Notice. In addition, FAA has made minor edits to its list of extraordinary circumstances to remove language that does not comport with the Supreme Court decision in Seven Counties, No. 23-975, 605 U.S. __, 2025 WL 1520964 (2025).

Appendix C sets forth portions of the FAA requirements for assessing impacts related to noise and noise-compatible land use.

This Order contains information applicable to all FAA lines of business. While the Order has been significantly reorganized and streamlined, most of the changes are either non-substantive or are technical corrections to align the FAA NEPA procedures with the recent significant changes to NEPA prescribed by Congress, instructions provided by the President, and guidance provided by the Supreme Court.

Issued in Washington, DC, on June 30, 2025.
Julie Ann Marks,
Executive Director, Office of Environment and Energy, Federal Aviation Administration.

[FR Doc. 2025-12362 Filed 7-1-25; 2:30 pm]

BILLING CODE P